DEPARTMENT OF HOMELAND SECURITY

Coast Guard

46 CFR Parts 1, 10, 11, 12, 13, 14, and 15

[Docket No. USCG-2016-0611]

Policy for Credentialing Officers of Towing Vessels

AGENCY: Coast Guard, DHS.

ACTION: Notice of availability.

SUMMARY: The Coast Guard announces the availability of Navigation and Vessel Inspection Circular (NVIC) 03-16, Guidelines for Credentialing Officers of Towing Vessels. This NVIC provides guidance to mariners concerning regulations governing endorsements to Merchant Mariner Credentials for service on towing vessels.

DATES: The policy announced in NVIC 03-16 is effective on July 7, 2016.

FOR FURTHER INFORMATION CONTACT: If you have questions about NVIC 03-16, call or email Luke B. Harden, Mariner Credentialing Program Policy Division (CG-CVC-4), U.S. Coast Guard; telephone 202-372-2357, or MMCPolicy@uscg.mil.

SUPPLEMENTARY INFORMATION:

Viewing Documents

Navigation and Vessel Inspection Circular (NVIC) 03-16, Guidelines for Credentialing Officers of Towing Vessels is available in the docket for this notice of availability and can also be viewed by going to http://www.uscg.mil/nmc and clicking on “STCW,” then click on “2014 NVIC Updates.” To view NVIC 03-16 in the docket, go to http://www.regulations.gov, type USCG-2016-0611 in the “Search” box and click “Search.”

Discussion

On December 24, 2014, the Coast Guard published a final rule in the Federal Register (78 FR 77796) amending Title 46, Code of Federal Regulations, to implement the International Convention on Standards of Training, Certification and Watchkeeping for Seafarers, as amended 1978 (STCW Convention), including the 2010 amendments to the STCW Convention, and the Seafarers' Training, Certification and Watchkeeping Code. The rule also made changes to reorganize, clarify, and update regulations for credentialing merchant mariners.

NVIC 03-16 describes policy for merchant mariners to qualify for and renew endorsements to Merchant Mariner Credentials for service on towing vessels. Notable provisions of this NVIC include:

1. Providing guidance on grandfathering provisions contained in the rule published December 24, 2014 (78 FR 77796).

2. Revising the “Frequently Asked Questions” to include discussion of the provisions of the new rule, and to include questions that have arisen with regularity since publication of the predecessor NVIC 04-01.

3. Revising the Towing Officer Assessment Records (TOARs) to include guidance to Designated Examiners on how to perform assessment of the tasks in the TOARs and to add certain tasks necessary to fully assess the competence of candidates for endorsements. For example, the task “Maneuver through a bridge” was added to the Near Coastal/Oceans TOAR as this TOAR is for an endorsement that will be valid where bridges are common.

4. Providing additional guidance on TOARs restricted to Local Limited Areas.

5. Providing guidance on endorsements that will be restricted to routes without locks and to service upon harbor-assist vessels or Integrated Tug Barge (ITB) and Articulated Tug Barge (ATB) vessels.

Authority

This notice of availability is issued under the authority of 5 U.S.C. 552(a).

Dated: June 30, 2016.
V.B. Gifford,
Captain, U.S. Coast Guard, Director, Inspection and Compliance.

[FR Doc. 2016-16113 Filed 7-6-16; 8:45 am]

BILLING CODE 9110-04-P